DEPARTMENT OF HOMELAND SECURITY

Federal Emergency Management Agency

[Docket ID FEMA-2015-0001; Internal Agency Docket No. FEMA-B-1539]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before January 25, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1539, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: October 8, 2015.
Roy E. Wright,
Deputy Associate Administrator for Insurance and Mitigation, Department of Homeland Security, Federal Emergency Management Agency.

Community | Community map repository address
Clayton County, Georgia, and Incorporated Areas
Maps Available for Inspection Online at: http://www.fema.gov/preliminaryfloodhazarddata
Project: 12-04-7371S Preliminary Date: May 29, 2015
City of Atlanta | City Hall, Office of Site Development, 72 Marietta Street, Atlanta, GA 30303.
City of Forest Park | Clayton County Water Authority, 1600 Battle Creek Road, Morrow, GA 30260.
City of Jonesboro | Clayton County Water Authority, 1600 Battle Creek Road, Morrow, GA 30260.
City of Lake City | Clayton County Water Authority, 1600 Battle Creek Road, Morrow, GA 30260.
City of Lovejoy | Clayton County Water Authority, 1600 Battle Creek Road, Morrow, GA 30260.
City of Morrow | Clayton County Water Authority, 1600 Battlecreek Road, Morrow, GA 30260.
City of Riverdale | Clayton County Water Authority, 1600 Battle Creek Road, Morrow, GA 30260.
Unincorporated Areas of Clayton County | Clayton County Water Authority, 1600 Battle Creek Road, Morrow, GA 30260.
Bucks County, Pennsylvania (All Jurisdictions)
Maps Available for Inspection Online at: http://www.fema.gov/preliminaryfloodhazarddata
Project: 11-03-1998S Preliminary Date: March 24, 2015
Borough of Bristol | Municipal Building, 250 Pond Street, Bristol, PA 19007.
Borough of Chalfont | Borough Hall, 40 North Main Street, Chalfont, PA 18914.
Borough of Doylestown | Borough Hall, 57 West Court Street, Doylestown, PA 18901.
Borough of New Britain | Borough Hall, 45 Keeley Avenue, New Britain, PA 18901.
Borough of Newtown | Pickering, Corts & Summerson, 642 Newtown-Yardley Road, Suite 300, Newtown, PA 18940.
Borough of Tullytown | Municipal Building, 500 Main Street, Tullytown, PA 19007.
Township of Bensalem | Township Building, 2400 Byberry Road, Bensalem, PA 19020.
Township of Bristol | Township Hall, 2501 Bath Road, Bristol, PA 19007.
Township of Buckingham | Township Zoning Office, 4613 Hughesian Drive, Buckingham, PA 18912.
Township of Doylestown | Township Administration Building, 425 Wells Road, Doylestown, PA 18901.
Township of Falls | Falls Township Building, 188 Lincoln Highway, Suite 100, Fairless Hills, PA 19030.
Township of Middletown | Middletown Township Municipal Center, 3 Municipal Way, Langhorne, PA 19047.
Township of New Britain | New Britain Township Municipal Building, 207 Park Avenue, Chalfont, PA 18914.
Township of Newtown | Township Building, 100 Municipal Drive, Newtown, PA 18940.
Township of Northampton | Northampton Township Administrative Building, 55 Township Road, Richboro, PA 18954.
Lubbock County, Texas, and Incorporated Areas
Maps Available for Inspection Online at: http://www.fema.gov/preliminaryfloodhazarddata
Project: 14-06-1556S Preliminary Date: April 16, 2015
City of Lubbock | City Hall, 1625 Thirteenth Street, Lubbock, TX 79401.
City of Wolfforth | City Hall, 302 Main Street, Wolfforth, TX 79382.
Unincorporated Areas of Lubbock County | Lubbock County Courthouse, 904 Broadway, Suite 101, Lubbock, TX 79401.

[FR Doc. 2015-27248 Filed 10-26-15; 8:45 am]

BILLING CODE 9110-12-P